SECURITIES AND EXCHANGE COMMISSION

[Release No. 34-99205; File No. SR-NYSE-2023-41]

Self-Regulatory Organizations; New York Stock Exchange LLC; Notice of Withdrawal of Proposed Rule Change To Amend Its Price List

December 19, 2023.

On November 1, 2023, New York Stock Exchange LLC (“NYSE”) filed with the Securities and Exchange Commission (the “Commission”), pursuant to Section 19(b)(1) of the Securities Exchange Act of 1934 (“Act” or “Exchange Act”) ¹ and Rule 19b-4 thereunder ² a proposed rule change to amend its Price List to: (1) modify fee rates and requirements for transactions that remove liquidity from the Exchange; (2) offer a monthly rebate for Designated Market Maker units with 150 or fewer assigned securities along with incentives for affiliated Supplemental Liquidity Providers; and (3) eliminate an underutilized fee for transactions that remove liquidity from the Exchange in Tape B and C securities. The proposed rule change was published for comment on November 21, 2023.³ On December 18, 2023, NYSE withdrew the proposed rule change (SR-NYSE-2023-41).

¹ 15 U.S.C. 78s(b)(1).

² 17 CFR 240.19b-4.

³ See Securities Exchange Act Release No. 98953 (November 15, 2023), 88 FR 81114.

For the Commission, by the Division of Trading and Markets, pursuant to delegated authority.⁴
⁴ 17 CFR 200.30-3(a)(12).
Sherry R. Haywood,
Assistant Secretary.

[FR Doc. 2023-28326 Filed 12-22-23; 8:45 am]

BILLING CODE 8011-01-P